CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the Presidential Freedom Scholarship Application. Copies of the information collection request can be obtained by contacting the office listed below in the ADDRESSES section of this notice.

DATES: Written comments must be submitted to the office listed in the ADDRESSES section by April 29, 2003.

ADDRESSES: Send comments to: Corporation for National and Community Service, Attn. Amiko Matsumoto, Program Coordinator, Learn and Serve America, 1201 New York Avenue, NW., Washington, DC, 20525.

FOR FURTHER INFORMATION CONTACT: Amiko Matsumoto, (202) 606-5000, ext. 556, or at amatsumoto@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

I. Background

The Presidential Freedom Scholarship program recognizes high school juniors and seniors for outstanding leadership in service. Each high school in the United States may award up to two recipients with a $1,000 scholarship for college: Five hundred dollars ($500) is funded from the Corporation's National Service Trust, and the remaining $500 is secured locally from civic groups, local business, and other community based organizations.

While the selection of the recipients is made by the high school, the principal must complete an application in order for the Corporation to release the funds in the form of a check made out to the student and the college that he/she is planning to attend. The application may be completed either in paper or online form.

II. Current Action

The Corporation is seeking public comment for approval of the Presidential Freedom Scholarship Application which will be used by high school principals to nominate high school juniors and seniors for this scholarship.

Type of Review: New information collection.

Agency: Corporation for National and Community Service.

Title: Presidential Freedom Scholarship Application.

OMB Number: None.

Agency Number: None.

Affected Public: High School Principals and/or guidance counselors.

Total Respondents: 7,000.

Frequency: Annually.

Average Time Per Response: 30 minutes.

Estimated Total Burden Hours: 3,500 hours.

Total Burden Cost (capital/startup): None.

Total Burden Cost (operating/maintenance): None.

Comments submitted in response to this notice will be summarized and/or included in the request for Office of Management and Budget approval of the information collection request; they will also become a matter of public record.

Dated: February 24, 2003.
Amy Cohen,
Director, Learn and Serve America.

[FR Doc. 03-4659 Filed 2-27-03; 8:45 am]

BILLING CODE 6050-$$-P